DEPARTMENT OF HEALTH AND HUMAN SERVICES

National Institutes of Health

Proposed Collection; 60-Day Comment Request; Generic Clearance To Collect Stakeholder Feedback on the Research Domain Criteria (RDoC) Initiative, (NIMH)

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Andrew Hooper, Ph.D., NIMH Project Clearance Liaison, Science Policy and Evaluation Branch, Office of Science Policy, Planning and Communications, NIMH, Neuroscience Center, 6001 Executive Boulevard, MSC 9667, Bethesda, Maryland 20892, call (301) 480-8433, or email your request, including your mailing address, to nimhprapubliccomments@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Generic Clearance to Collect Stakeholder Feedback on the Research Domain Criteria (RDoC) Initiative, 0925-0756, EXTENSION, exp., date 07/31/2021, National Institute of Mental Health (NIMH), National Institutes of Health (NIH).

Need and Use of Information Collection: This request serves as notice that the National Institute of Mental Health (NIMH) plans to collect stakeholder feedback to assess the strengths and weaknesses of the Research Domain Criteria (RDoC) initiative. NIMH launched RDoC in 2009 to implement Strategy 1.4 of the 2008 NIMH Strategic Plan: “Develop new ways of classifying disorders based on dimensions of observable behaviors and brain functions.” Rather than beginning with a syndrome and then working “down” to clarify mechanisms, the aim of RDoC is to guide research that begins with disruptions in neurobiological and behavioral mechanisms, and then works across systems to clarify connections among such disruptions and clinical symptoms. NIMH has developed social media platforms and tools for the RDoC initiative, including a dedicated RDoC twitter account (https://twitter.com/nimh_rdoc), the RDoC website, which also houses the RDoC matrix (https://www.nimh.nih.gov/research-priorities/rdoc/index.shtml), and several educational and training resources (including webinars) to educate the field and interface with scientists who may have questions about RDoC (https://www.nimh.nih.gov/research-priorities/rdoc/rdoc-educational-and-training-resources.shtml). The evaluation approach will be conducted using surveys centered around current content (i.e., website, twitter, and webinars), as well as open ended surveys that will cover the scientific content of RDoC. The information collected will be used by NIMH staff to determine success of the RDoC initiative, develop future directions and endeavors, and to help guide programmatic priorities for RDoC and the Institute.

OMB approval is requested for 3 years. There are no costs to respondents other than their time. The total estimated annualized burden hours are 490.

Estimated Annualized Burden Hours
Instrument type | Number of respondents | Number of responses per respondent | Average burden per response (in hours) | Total annual burden hours
Workshops | 50 | 1 | 8 | 400
Interviews | 10 | 1 | 30/60 | 5
Surveys | 100 | 1 | 30/60 | 50
Focus Groups | 10 | 1 | 1 | 10
Evaluation Forms | 100 | 1 | 15/60 | 25
Total | 270 | 270 |  | 490

Dated: April 14, 2021.
Andrew A. Hooper,
Project Clearance Liaison, National Institute of Mental Health, National Institutes of Health.

[FR Doc. 2021-09486 Filed 5-4-21; 8:45 am]

BILLING CODE 4140-01-P